DEPARTMENT OF ENERGY

Federal Energy Regulatory Commission

[Docket No. RM96-1-024]

Standards for Business Practices of Interstate Natural Gas Pipelines

May 6, 2003.

Algonquin Gas Transmission Company [Docket No. RP03-457-000]; Alliance Pipeline L.P. [Docket No. RP03-432-000]; ANR Storage Company [Docket No. RP03-415-000]; ANR Pipeline Company [Docket No. RP03-441-000]; Black Marlin Pipeline Company [Docket No. RP03-351-000]; Blue Lake Gas Storage Company [Docket No. RP03-406-000]; Canyon Creek Compression Company [Docket No. RP03-424-000]; Central New York Oil and Gas Company, LLC [Docket No. RP03-412-000]; CenterPoint Energy Gas Transmission Company [Docket No. RP03-407-000]; CenterPoint Energy-Mississippi River Transmission Corporation [Docket No. RP03-466-000]; CMS Trunkline Gas Company, LLC [Docket No. RP03-450-000]; CMS Trunkline LNG Company, LLC [Docket No. RP03-448-000]; Colorado Interstate Gas Company [Docket No. RP03-410-000]; Columbia Gas Transmission Corporation [Docket No. RP03-455-000]; Columbia Gulf Transmission Company [Docket No. RP03-447-000]; Crossroads Pipeline Company [Docket No. RP03-456-000]; Dauphin Island Gathering Partners [Docket No. RP03-453-000]; Destin Pipeline Company, L.L.C. [Docket No. RP03-371-000]; Discovery Gas Transmission LLC [Docket No. RP03-348-000]; Dominion Cove Point LNG, LP [Docket No. RP03-379-000]; Dominion Transmission, Inc. [Docket No. RP03-377-000]; East Tennessee Natural Gas Company [Docket No. RP03-430-000]; Eastern Shore Natural Gas Company [Docket No. RP03-388-000]; Egan Hub Partners, L.P. [Docket No. RP03-454-000]; El Paso Natural Gas Company [Docket No. RP03-394-000]; Florida Gas Transmission Company [Docket No. RP03-361-000]; Garden Banks Gas Pipeline, LLC [Docket No. RP03-443-000]; Granite State Gas Transmission Company [Docket No. RP03-458-000]; Great Lakes Gas Transmission Limited Partnership [Docket No. RP03-368-000]; Guardian Pipeline, L.L.C. [Docket No. RP03-434-000]; Gulf States Transmission Corporation [Docket No. RP03-416-000]; Gulf South Pipeline Company, LP [Docket No. RP03-413-000]; Gulfstream Natural Gas System [Docket No. RP03-439-000]; High Island Offshore System, L.L.C. [Docket No. RP03-418-000]; Horizon Pipeline Company, L.L.C. [Docket No. RP03-396-000] Iroquois Gas Transmission System LP [Docket No. RP03-420-000]; KeySpan LNG, L.P. [Docket No. RP03-408-000]; Kern River Gas Transmission Company [Docket No. RP03-374-000]; Kinder Morgan Interstate Gas Transmission LLC [Docket No. RP03-372-000]; KO Transmission Company [Docket No. RP03-421-000]; Maritimes & Northeast Pipeline, L.L.C. [Docket No. RP03-431-000]; Midwestern Gas Transmission Company [Docket No. RP03-400-000]; Mississippi Canyon Gas Pipeline, LLC Docket No. RP03-442-000]; Mojave Pipeline Company [Docket No. RP03-426-000]; National Fuel Gas Supply Corporation [Docket No. RP03-370-000]; Natural Gas Pipeline Company of America [Docket No. RP03-423-000]; Nautilus Pipeline Company, L.L.C. [Docket No. RP03-444-000]; North Baja Pipeline, LLC [Docket No. RP03-384-000]; Northern Natural Gas Company [Docket No. RP03-350-000]; Northern Border Pipeline Company [Docket No. RP03-414-000]; Northwest Pipeline Corporation [Docket No. RP03-436-000]; Overthrust Pipeline Company [Docket No. RP03-390-000]; Ozark Gas Transmission, L.L.C. [Docket No. RP03-405-000]; Paiute Pipeline Company [Docket No. RP03-404-000]; Panhandle Eastern Pipe Line Company [Docket No. RP03-449-000]; Petal Gas Storage, L.L.C. [Docket No. RP03-425-000]; PG&E Gas Transmission, Northwest Corporation [Docket No. RP03-403-000]; Pine Needle LNG Company, LLC [Docket No. RP03-428-000]; Portland Natural Gas Transmission System [Docket No. RP03-446-000]; Questar Southern Trails Pipeline Company [Docket No. RP03-391-000]; Questar Pipeline Company [Docket No. RP03-402-000]; Sabine Pipe Line LLC [Docket No. RP03-367-000]; Sea Robin Pipeline Company [Docket No. RP03-452-000]; Southern Star Central Gas Pipeline, Inc. [Docket No. RP03-419-000]; Southern LNG Inc. [Docket No. RP03-401-000]; Southern Natural Gas Company [Docket No. RP03-381-000]; Southwest Gas Storage Company [Docket No. RP03-451-000]; Steuben Gas Storage Company [Docket No. RP03-417-000]; Stingray Pipeline Company, L.L.C. [Docket No. RP03-445-000]; Tennessee Gas Pipeline Company [Docket No. RP03-389-000]; Texas Gas Transmission Corporation [Docket No. RP03-435-000]; Texas Eastern Transmission, LP [Docket No. RP03-438-000]; Trailblazer Pipeline Company [Docket No. RP03-422-000]; TransColorado Gas Transmission Company [Docket No. RP03-376-000]; Transcontinental Gas Pipe Line Corporation [Docket No. RP03-429-000]; Transwestern Pipeline Company [Docket No. RP03-360-000]; Tuscarora Gas Transmission Company [Docket No. RP03-373-000]; USG Pipeline Company [Docket No. RP03-369-000]; Vector Pipeline L.P. [Docket No. RP03-440-000]; Viking Gas Transmission Company [Docket No. RP03-387-000]; WestGas InterState, Inc. [Docket No. RP03-437-000]; Williston Basin Interstate Pipeline Company [Docket No. RP03-375-000]; Wyoming Interstate Company, Ltd [Docket No. RP03-411-000]; Young Gas Storage Company, Ltd. [Docket No. RP03-427-000]; (Not Consolidated)

Take notice that the above-referenced pipelines filed revised tariff sheets to comply with Order No. 587-R, Docket No. RM96-1-024 issued by the Commission on March 12, 2003.¹ These revised tariff sheets are to be effective July 1, 2003.

¹ Standards for Business Practices of Interstate Natural Gas Pipelines, Order No. 587-R, 102 FERC § 61,273, 68 FR 13813 (March 21, 2003), III FERC Stats. & Regs. Regulations, § 31,141 (March 12, 2003).

On March 12, 2003, the Commission issued Order No. 587-R, which among other things, amended 18 CFR 284.12 of its regulations to incorporate by reference the most recent version of the standards promulgated by the Wholesale Gas Quadrant of the North American Energy Standards Board (NAESB), i.e., NAESB Standards Version 1.6, and the Wholesale Gas Quadrant's standards governing partial day recalls (Recommendations R02002 and R02002-2), adopted October 31, 2002.

In Order No. 587-R, the Commission required pipelines to file revised tariff sheets to reflect the changed standards by May 1, 2003, with an effective date of July 1, 2003. The Commission directed the pipelines incorporating the Version 1.6 standards into their tariffs to include the standard number and Version 1.6. Pipelines incorporating by reference the partial day recall standards must refer to the standard number (e.g., 3.3.z2) and the Recommendation number (R02002 and R02002-2) in which the standard is adopted. Each of the pipelines has filed to comply with Order No. 587-R.

Due to the large number of pipelines that have filed to comply with Order No. 587-R, any party filing a motion to intervene or protest, must file a separate motion for each docket.

Any person desiring to be heard or to protest said filings should file motions to intervene or protests with the Federal Energy Regulatory Commission, 888 First Street, NE., Washington, DC 20426, in accordance with § 385.214 or 385.211 of the Commission's Rules and Regulations. Protests will be considered by the Commission in determining the appropriate action to be taken, but will not serve to make protestants parties to the proceedings. Any person wishing to become a party must file a motion to intervene. Pursuant to § 154.210, interventions and protests are due 12 days after the date of the filing in each docket. These filings are available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 03-11796 Filed 5-12-03; 8:45 am]

BILLING CODE 6717-01-P